DEPARTMENT OF TRANSPORTATION

Federal Aviation Administration

14 CFR Part 73

[Docket No. FAA-2004-17612; Airspace Docket No. 04-ASW-03]

RIN 2120-AA66

Modification of Restricted Area 5115, NM; and Restricted Areas 6316, 6317, and 6318, TX

AGENCY: Federal Aviation Administration (FAA), DOT.

ACTION: Final rule.

SUMMARY: This action amends the legal description for Restricted Area 5115 (R-5115), Deming, NM; R-6316, Eagle Pass, TX; R-6317, El Sauz; and R-6318, Marfa, TX to reflect a change in the using agency. Specifically, this action changes the using agency from the “United States Custom Service” to the “Western Air Defense Sector” in response to a request from the United States Air Force (USAF). This action makes no other changes to R-5515, R-6316, R-6317, or R-6318.

EFFECTIVE DATE: 0901 UTC, August 5, 2004.

FOR FURTHER INFORMATION CONTACT: Steve Rohring, Airspace and Rules, Office of System Operations and Safety, ATO-R, Federal Aviation Administration, 800 Independence Avenue, SW., Washington, DC 20591; telephone: (202) 267-8783.

SUPPLEMENTARY INFORMATION:

History

On February 20, 2004, the USAF requested that the FAA take action to change the using agency of R-5515, R-6316, R-6317, and R-6318 from the “United States Custom Service” to the “Western Air Defense Sector.” The FAA is taking this action in response to that request. Since this action only changes the using agency for the restricted area and does not change the dimensions or operational requirements of that airspace, notice and public procedure under 5 U.S.C. 553(b) are unnecessary.

The Rule

This action amends title 14 Code of Federal Regulations (14 CFR) part 73 by changing the using agency of R-5515, R-6316, R-6317, and R-6318 from the “United States Custom Service” to the “Western Air Defense Sector.” This action makes no other changes to R-5515, R-6316, R-6317, or R-6318.

Section 73.51 and 73.63 of part 73 of the Federal Aviation Regulations were republished in FAA Order 7400.8L dated October 7, 2003.

The FAA has determined that this proposed regulation only involves an established body of technical regulations for which frequent and routine amendments are necessary to keep them operationally current. Therefore, this proposed regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1D, Policies and Procedures for Considering Environmental Impacts. This airspace action is not expected to cause any potentially significant environmental impacts, and no extraordinary circumstances exist that warrant preparation of an environmental assessment.

List of Subjects in 14 CFR Part 73

Airspace, Navigation (air).

The Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

2. § 73.51 and 73.63 are amended as follows:

§ 73.51 and 73.63 [Amended]

* * * * *

R-5115 Deming, NM [Amended]

By removing the words “Using Agency. United States Customs Service” and inserting the words “Using Agency. Western Air Defense Sector.”

* * * * *

R-6316 Eagle Pass, TX [Amended]

By removing the words “Using Agency. United States Customs Service” and inserting the words “Using Agency. Western Air Defense Sector.”

* * * * *

R-6317 El Sauz, TX [Amended]

By removing the words “Using Agency. United States Customs Service” and inserting the words “Using Agency. Western Air Defense Sector.”

* * * * *

R-6318 Marfa, TX [Amended]

By removing the words “Using Agency. United States Customs Service” and inserting the words “Using Agency. Western Air Defense Sector.”

* * * * *

Issued in Washington, DC, on May 21, 2004.
Paul Gallant,
Acting Manager, Airspace and Rules, ATO-R.

[FR Doc. 04-12065 Filed 5-27-04; 8:45 am]

BILLING CODE 4910-13-M